ENVIRONMENTAL PROTECTION AGENCY

[FRL-7577-3]

Science Advisory Board Staff Office: Clean Air Scientific Advisory Committee (CASAC) Notification of Advisory Committee Meeting of the CASAC Particulate Matter Review Panel

AGENCY: Environmental Protection Agency (EPA).

ACTION: Notice.

SUMMARY: The Environmental Protection Agency (EPA) Science Advisory Board (SAB) Staff Office, announces a public meeting of the Clean Air Scientific Advisory Committee's (CASAC) Particulate Matter (PM) Review Panel to: discuss follow-on matters related to its ongoing peer review of the EPA Air Quality Criteria Document for Particulate Matter (Fourth External Review Draft); and conduct a peer review of the Review of the National Ambient Air Quality Standards for Particulate Matter: Policy Assessment of Scientific and Technical Information (OAQPS Staff Paper—First Draft) and a related draft technical report, Particulate Matter Health Risk Assessment for Selected Urban Areas (Draft Report).

DATES: The meeting will be held November 12 and 13, 2003, from 8:30 a.m. to 5:30 p.m. (Eastern Time) on both days.

ADDRESSES: The meeting will take place in Research Triangle Park (RTP), North Carolina, or the immediate vicinity. Once the meeting location has been determined, and in no case later than five business days prior to the meeting, this information will be posted on the SAB Web site at: http://www.epa.gov/sab. A publicly-accessible teleconference line will be available for the entire meeting.

FOR FURTHER INFORMATION CONTACT: Members of the public who wish to obtain the teleconference call-in numbers and access codes should contact Ms. Delores Darden, EPA Science Advisory Board Staff, at telephone/voice mail: (202) 564-2282, or e-mail: darden.delores@epa.gov, or Ms. Sandra Friedman, EPA Science Advisory Board Staff, at telephone/voice mail: (202) 564-2526, or e-mail: friedman.sandra@epa.gov.

Any member of the public who wants further information concerning this meeting, or who wishes to submit written or brief oral comments (five minutes or less) must contact Mr. Fred Butterfield, Designated Federal Officer, EPA Science Advisory Board (1400A), U.S. Environmental Protection Agency, 1200 Pennsylvania Avenue, NW., Washington, DC 20460; telephone/voice mail: (202) 564-4561; fax: (202) 501-0582; or e-mail: butterfield.fred@epa.gov. Requests to provide oral comments must be in writing (e-mail, fax or mail) and received by Mr. Butterfield no later than noon Eastern Time five business days prior to the meeting in order to reserve time on the meeting agenda. Written comments (preferably via e-mail) should be sent to Mr. Butterfield by the same deadline so that the comments can be provided to the CASAC PM Review Panel prior to the meeting. See additional instructions in the section below entitled, “Providing Oral or Written Comments at SAB Meetings.” General information concerning the CASAC or the EPA Science Advisory Board can be found on the EPA Web site at: http://www.epa.gov/sab.

SUPPLEMENTARY INFORMATION:

Summary: The Clean Air Scientific Advisory Committee, which comprises seven members appointed by the EPA Administrator, was established under section 109(d)(2) of the Clean Air Act (42 U.S.C. 7409) as an independent scientific advisory committee, in part to provide advice, information and recommendations on the scientific and technical aspects of issues related to air quality criteria and national ambient air quality standards (NAAQS) under sections 108 and 109 of the Act. The CASAC is a Federal advisory committee chartered under the Federal Advisory Committee Act (FACA), as amended, 5 U.S.C., App. The CASAC PM Review Panel will comply with the provisions of FACA and all appropriate SAB Staff Office procedural policies.

The PM Review Panel is charged with: (1) Discussing follow-on matters related to the Panel's ongoing peer review of the EPA Air Quality Criteria Document for Particulate Matter (Fourth External Review Draft); and (2) conducting a peer review of the Review of the National Ambient Air Quality Standards for Particulate Matter: Policy Assessment of Scientific and Technical Information (OAQPS Staff Paper—First Draft) and a related draft technical report, Particulate Matter Health Risk Assessment for Selected Urban Areas (Draft Report).

Background: EPA is in the process of updating, and revising where appropriate, the Air Quality Criteria Document (AQCD) for PM as issued in 1996. Section 109(d)(1) of the Clean Air Act (CAA) requires that EPA carry out a periodic review and revision, where appropriate, of the air quality criteria and the NAAQS for “criteria” air pollutants such as PM. On June 30, 2003, the National Center for Environmental Assessment (NCEA), within EPA's Office of Research and Development, made available for public review and comment a Fourth External Review Draft of a revised document, EPA Air Quality Criteria for Particulate Matter. Under CAA sections 108 and 109, the purpose of the revised document is to provide an assessment of the latest scientific information on the effects of airborne PM on the public health and welfare, for use in EPA's current review of the NAAQS for PM. Detailed summary information on the history of the current draft AQCD for PM is contained in a previous EPA Federal Register notice (68 FR 36985, June 20, 2003). The EPA Air Quality Criteria for Particulate Matter (Fourth External Review Draft) can be viewed and downloaded from the NCEA Web site at: http://www.epa.gov/ncea. Any questions concerning the draft AQCD for PM should be directed to Dr. Robert Elias, NCEA-RTP, at telephone: (919) 541-4167; or e-mail: elias.robert@epa.gov. The first element of the charge to the CASAC PM Review Panel contained in the “Summary” section above is a follow-on to the Panel's review of the EPA Air Quality Criteria Document for Particulate Matter (Fourth External Review Draft). This review first took place in a public meeting held in RTP on August 25-26, 2003 (68 FR 47060, August 7, 2003) and was continued during a public teleconference meeting held on October 3, 2003 (68 FR 53734, September 12, 2003).

Furthermore, On August 29, 2003, the Office of Air Quality Planning and Standards (OAQPS), within EPA's Office of Air and Radiation, made available for public review and comment (68 FR 51774, August 28, 2003) the Review of the National Ambient Air Quality Standards for Particulate Matter: Policy Assessment of Scientific and Technical Information (OAQPS Staff Paper—First Draft) (first draft PM Staff Paper) and a related technical report, Particulate Matter Health Risk Assessment for Selected Urban Areas (Draft Report) (draft PM Risk Assessment). The purpose of the first draft Staff Paper is to evaluate the policy implications of the key scientific and technical information contained in the EPA's AQCD for PM, and to identify critical elements that EPA believes should be considered in the review of the PM NAAQS. In essence, the Staff Paper is intended to “bridge the gap” between the scientific review contained in the AQCD for PM and the public health and welfare policy judgments required of the EPA Administrator in reviewing the PM NAAQS. The draft Risk Assessment describes and presents the preliminary results from a PM health risk assessment for fine particles (PM2.5), coarse fraction particles (PM10-2.5), and PM10. The risk assessment methodology and preliminary results also are summarized in the first draft Staff Paper. Detailed summary information on the history of the first draft Staff Paper and draft Risk Assessment is contained in a previous EPA Federal Register notice (68 FR 51774). The Review of the National Ambient Air Quality Standards for Particulate Matter: Policy Assessment of Scientific and Technical Information (OAQPS Staff Paper—First Draft) and Particulate Matter Health Risk Assessment for Selected Urban Areas (Draft Report) can be viewed and downloaded from EPA's Technology Transfer Network (TTN) Web site at: http://www.epa.gov/ttn/naaqs/standards/pm/s_pm_index.html. Any questions concerning the first draft Staff Paper and draft Risk Assessment for PM should be directed to Dr. Mary Ross, OAQPS-RTP, at telephone: (919) 541-5170, or e-mail: ross.mary@epa.gov.

Availability of Additional Meeting Materials: A copy of the draft agenda for the meeting that is described in this notice will be posted on the SAB Web site at: http://www.epa.gov/sab (under the “Agendas” subheading) in advance of the CASAC PM Review Panel meeting.

Providing Oral or Written Comments at SAB Meetings: It is the policy of the EPA Science Advisory Board Staff Office to accept written public comments of any length, and to accommodate oral public comments whenever possible. The EPA Science Advisory Board Staff Office expects that public statements presented at its meetings will not be repetitive of previously-submitted oral or written statements. Oral Comments: In general, each individual or group requesting an oral presentation at a face-to-face meeting will be limited to a total time of ten minutes (unless otherwise indicated). Deadlines for getting on the public speaker list for a meeting are provided above. Speakers should bring at least 35 copies of their comments and presentation slides for distribution to the reviewers and public at the meeting. Written Comments: Although the SAB Staff Office accepts written comments until the date of the meeting (unless otherwise stated), written comments should be received in the SAB Staff Office at least one week prior to the meeting date so that the comments may be made available to the committee for their consideration. Comments should be supplied to Mr. Butterfield at the address/contact information noted above in the following formats: one hard copy with original signature, and one electronic copy via e-mail (acceptable file format: Adobe Acrobat PDF, WordPerfect, Word, or Rich Text files (in IBM-PC/Windows 95/98 format)). Those providing written comments and who attend the meeting are also asked to bring 35 copies of their comments for public distribution.

Meeting Access: Individuals requiring special accommodation at this meeting, including wheelchair access to the conference room, should contact Mr. Butterfield at the phone number or e-mail address noted above at least five business days prior to the meeting so that appropriate arrangements can be made.

Dated: October 16, 2003.
Vanessa T. Vu,
Director, EPA Science Advisory Board Staff Office.

[FR Doc. 03-26664 Filed 10-21-03; 8:45 am]

BILLING CODE 6560-50-P